DEPARTMENT OF TRANSPORTATION

Pipeline and Hazardous Materials Safety Administration

Notice of Application for Special Permits

AGENCY: Pipeline and Hazardous Materials Safety Administration (PHMSA), DOT.

ACTION: List of applications for special permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before May 21, 2012.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington DC or at http://regulations.gov.

This notice of receipt of applications for special permit is published in accordance with Part 107 of the Federal hazardous materials transportation law (49 U.S.C. 5117(b); 49 CFR 1.53(b)).

Issued in Washington, DC, on April 10, 2012.
Donald Burger,
Chief, General Approvals and Permits.

Application No. | Docket No. | Applicant | Regulation(s) affected | Nature of special permit thereof
15583-N |  | Northern Air Cargo, Anchorage, AK | 49 CFR 172.101 Column (9B) | To authorize the transportation in commerce of certain Class 1 explosive materials which are forbidden for transportation by air, to be transported by cargo aircraft within the State of Alaska when other means of transportation are impracticable or not available. (mode 4)
15593-N |  | ITW Sexton, Decatur, AL | 49 CFR 173.304a(d)(3), 178.33(a)(8) | To authorize the manufacture, marking and sale of a non-DOT specification container to be used for the transportation in commerce of UN1075. (modes 1, 2, 3, 4)
15598-N |  | Lockheed Martin Space Systems Company, Denver, CO | 49 CFR, 49 CFR § 172.101, 49 CFR 173.301, 49 CFR 173.302a (a)(1) and 49 CFR 173.304a (a)(2) | To authorize the transportation in commerce of hazardous materials listed in table 6 in spacecraft as non-specification packaging. (modes 1, 3, 4)
15603-N |  | EC Source Aviation, LLC, Mesa, AZ | 49 CFR, 49 CFR parts 172.101, Column (9b), 172.204(c)(3), 173.27(b)(2), 175.30(a)(1), 172.200, 172.300, 172.400 | To authorize the transportation in commerce of certain hazardous materials by cargo aircraft including by external load in remote areas and without being subject to hazard communication requirements and quantity limitations where no other means of transportation is available. (mode 4)
15615-N |  | American Promotional Events, Inc.—East d/b/a TNT Fireworks, Florence, AL | 49 CFR 171.8 | To authorize the transportation in commerce of UNO336 Fireworks in UN4G packaging with a capacity greater than 450 liters. (mode 1)

[FR Doc. 2012-9191 Filed 4-18-12; 8:45 am]

BILLING CODE 4909-60-M